DEPARTMENT OF THE INTERIOR

Fish And Wildlife Service

[FWS-R2-ES-2008-N0002], [20124-1113-0000-F5]

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before February 29, 2008.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments.

FOR FURTHER INFORMATION CONTACT: Chief, Endangered Species Division, P.O. Box 1306, Room 4102, Albuquerque, New Mexico 87103 (505) 248-6920.

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-676811

Applicant: Regional Director, U.S. Fish and Wildlife Service, Albuquerque, New Mexico.

Applicant requests an amendment to the permit for research and recovery purposes to conduct recovery activities for the Devil's Hole pupfish (Cyprinodon diabolis) at Willow Beach National Fish Hatchery in Arizona and Dexter National Fish Hatchery and Technology Center in New Mexico.

Permit TE-053085

Applicant: Bureau of Reclamation, Boulder City, Nevada.

Applicant requests an amendment to a current permit to conduct presence/absence surveys for research and recovery purposes for the following species: Bonytail chub (Gila elegans) and razorback sucker (Xyrauchen texanus) within Arizona, Nevada, and California.

Permit TE-037155

Applicant: Bio-West, Inc., Round Rock, Texas.

Applicant requests an amendment to a previous permit for research and recovery purposes to conduct presence/absence surveys for spikedace (Meda fulgida) within Arizona.

Permit TE-170625

Applicant: Daniel Howard, Tulsa, Oklahoma.

Applicant requests a new permit to conduct presence/absence surveys for research and recovery purposes for American burying beetle (Nicrophorus americanus) within Oklahoma.

Permit TE-030115

Applicant: Bureau of Land Management, Safford Field Office, Safford, Arizona.

Applicant requests an amendment to an existing permit for research and recovery purposes to conduct presence/absence surveys for the following species: Gila Chub (Gila intermedia) and Peebles Navajo cactus (Pediocactus peeblesianus var. peeblesianus) within Arizona.

Permit TE-037780

Applicant: Texas Westmoreland Coal Company, Jewett, Texas.

Applicant requests an amendment to an existing permit for research and recovery purposes to conduct presence/absence surveys for interior least tern (Sterna antillarium) within Texas.

Permit TE-821356

Applicant: Grand Canyon Monitoring and Research Center (USGS), Flagstaff, Arizona.

Applicant requests an amendment to an existing permit for research and recovery purposes to conduct presence/absence surveys for humpback chub (Gila cypha) within Arizona.

Authority: 16 U.S.C. 1531 et seq.

Dated: January 8, 2008.
Christopher T. Jones,
Acting Regional Director, Southwest Region, Albuquerque, New Mexico.

[FR Doc. E8-1604 Filed 1-29-08; 8:45 am]

BILLING CODE 4510-55-P